DEPARTMENT OF ENERGY

Federal Energy Regulatory Commission

Combined Notice of Filings

Take notice that the Commission has received the following Natural Gas Pipeline Rate and Refund Report filings:

Filings Instituting Proceedings

Docket Numbers: PR14-40-000.

Applicants: Atmos Energy—Kentucky/Mid-States Division.

Description: Tariff filing per 284.123(e)/.224: Termination of Statement of Operating Conditions to be effective 7/2/2014; TOFC: 800.

Filed Date: 7/2/14.

Accession Number: 20140702-5163.

Comments Due: 5 p.m. ET 7/23/14.

284.123(g) Protests Due:

Docket Numbers: PR14-41-000.

Applicants: Worsham-Steed Gas Storage, LLC.

Description: Tariff filing per 284.123(e) + (g): Amended Statement of Operating Conditions to be effective 7/7/14; TOFC: 1280.

Filed Date: 7/7/14.

Accession Number: 20140707-5112.

Comments Due: 5 p.m. ET 7/28/14.

284.123(g) Protests Due: 5 p.m. ET 9/5/14.

Docket Numbers: PR14-42-000.

Applicants: Hill-Lake Gas Storage, LLC.

Description: Tariff filing per 284.123(e) + (g): Amended Statement of Operating Conditions to be effective 7/7/2014; TOFC: 1280.

Filed Date: 7/7/14.

Accession Number: 20140707-5114.

Comments Due: 5 p.m. ET 7/28/14.

284.123(g) Protests Due: 5 p.m. ET 9/5/14.

Docket Numbers: CP14-519-000.

Applicants: Honeoye Storage Corporation.

Description: Abbreviated Application for a Certificate of Public Convenience and Necessity of Honeoye Storage Corporation.

Filed Date: 7/7/14.

Accession Number: 20140707-5186.

Comments Due: 5 p.m. ET 7/21/14.

Docket Numbers: RP14-1094-000.

Applicants: Southern Natural Gas Company, L.L.C.

Description: Negotiated Rate Filing to be effective 7/1/2014.

Filed Date: 7/8/14.

Accession Number: 20140708-5046.

Comments Due: 5 p.m. ET 7/21/14.

Docket Numbers: RP14-1095-000.

Applicants: Midcontinent Express Pipeline LLC.

Description: Chesapeake Neg Rate to be effective 7/8/2014.

Filed Date: 7/8/14.

Accession Number: 20140708-5077.

Comments Due: 5 p.m. ET 7/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated July 9, 2014.
Nathaniel J. Davis, Sr.,
Deputy Secretary.

[FR Doc. 2014-16898 Filed 7-17-14; 8:45 am]

BILLING CODE 6717-01-P